DEPARTMENT OF HOMELAND SECURITY

U.S. Customs and Border Protection

DEPARTMENT OF THE TREASURY

19 CFR Part 12

[CBP Dec. 24-16]

RIN 1515-AE91

Emergency Import Restrictions Imposed on Categories of Archaeological and Ethnological Material of Ukraine

AGENCY: U.S. Customs and Border Protection, Department of Homeland Security; Department of the Treasury.

ACTION: Final rule.

SUMMARY: This document amends the U.S. Customs and Border Protection (CBP) regulations to reflect the imposition of emergency import restrictions on categories of archaeological and ethnological material of Ukraine, pursuant to a determination made by the United States Department of State under the terms of the Convention on Cultural Property Implementation Act. The emergency import restrictions will be in effect until March 5, 2029, unless extended. This document contains the Designated List of Archaeological and Ethnological Material of Ukraine that describes the types of objects or categories of archaeological and ethnological material to which the import restrictions apply.

DATES: Effective on September 10, 2024.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on eligible archaeological and ethnological material. In certain limited circumstances, the CPIA authorizes the imposition of restrictions on an emergency basis (19 U.S.C. 2603). The emergency restrictions are effective for no more than five years from the date of the State Party's request and may be extended for three years where it is determined that the emergency condition continues to apply with respect to the covered material (19 U.S.C. 2603(c)(3)). These restrictions may also be continued, in whole or in part, pursuant to an agreement concluded within the meaning of the CPIA (19 U.S.C. 2603(c)(4)).

Determinations

Pursuant to 19 U.S.C. 2602(a), the government of Ukraine, a State Party to the Convention, requested on March 5, 2024, that import restrictions be imposed on certain archaeological and ethnological material, the pillage of which jeopardizes the cultural heritage of Ukraine. The CPIA authorizes the President (or designee) to apply import restrictions on an emergency basis if the President determines that an emergency condition applies with respect to any archaeological or ethnological material of any requesting State Party (19 U.S.C. 2603).

On July 26, 2024, the Assistant Secretary for Educational and Cultural Affairs, United States Department of State, after consultation with and recommendation by the Cultural Property Advisory Committee, made the determinations necessary under the CPIA for the emergency imposition of import restrictions on categories of archaeological material and ethnological material of the cultural heritage of Ukraine. The Designated List below sets forth the categories of material to which the import restrictions apply. Thus, U.S. Customs and Border Protection (CBP) is amending § 12.104g(b) of title 19 of the Code of Federal Regulations (19 CFR 12.104g(b)) accordingly.

Importation of covered material from Ukraine will be restricted until March 5, 2029, unless the conditions set forth in 19 U.S.C. 2606 and 19 CFR 12.104c are met.

Designated List of Archaeological and Ethnological Material of Ukraine

The Designated List includes, but is not limited to, categories of objects described below.

Archaeological material in the Designated List ranges in date from the Paleolithic period (c. 1.4 million years ago) through 1774 C.E. Ethnological material in the Designated List includes: ethnological religious and ritual objects, and objects related to funerary rites and burials dating from 200 C.E. to 1917 C.E.; ethnological manuscripts, written documents, and early prints dating from 900 C.E. to 1917 C.E.; ethnological architectural elements dating from 200 C.E. to 1917 C.E.; and ethnological paintings, military material, and traditional folk clothing and textiles dating from 1700 C.E. to 1917 C.E. The designated list set forth is representative only. Any dates and dimensions are approximate.

Categories of Archaeological and Ethnological Material

I. Archaeological Material

A. Stone

B. Metal

C. Terracotta, Ceramic, Porcelain, Faience, and Fired Clay

D. Plaster, Stucco, and Unfired Clay

E. Bone, Ivory, Horn, and Shell

F. Wood and Other Organic Materials

G. Glass

H. Human Remains

II. Ethnological Material

A. Religious and Ritual Objects, and Objects Related to Funerary Rites and Burials

B. Architectural Elements

C. Manuscripts, Written Documents, and Early Prints

D. Ethnological Paintings

E. Military Material

F. Traditional Folk Clothing and Textiles

Approximate simplified chronology of well-known periods:

Paleolithic: c. 1.4 million years ago-8000 B.C.E.

Mesolithic: c. 7000-4500 B.C.E.

Neolithic: c. 6000-3000 B.C.E. (c. 6000-4000 B.C.E. on the right bank of the Dnipro River and 5000-3000 B.C.E. in Polissia and the left bank of the Dnipro River)

Copper Age (or Eneolithic): c. 4000-2000 B.C.E.

Bronze Age: c. 2100-800 B.C.E.

Early Iron Age: c. 800-400 B.C.E.

Ancient Greek Period: c. 650 B.C.E-47 B.C.E.

Roman Period: c. 47 B.C.E.-340 C.E.

Late Antiquity and Early Byzantine Periods: c. 340-880 C.E.

Kyivan Rus Period: c. 880-1240 C.E.

Late Medieval Period: c. 1240-1650 C.E.

Early Modern Period: c. 1650-1917 C.E.

I. Archaeological Material

Archaeological material includes categories of objects ranging in date from c. 1.4 million years ago through 1774 C.E.

A. Stone

1. Large Sculpture and Statues—Including anthropomorphic, zoomorphic, and multi-figure compositions. Made primarily of sandstone, limestone, marble, and shell rock. Neolithic menhir-like stones may represent stylized human images, while Bronze Age statues are usually rectangular with the head outlined and other body parts shown in relief. Scythian sculptures schematically depict warriors. Sculptures from the Eneolithic and Ancient Greek periods often take the form of schematic human busts. Ancient Greek and Roman sculptures often depict naturalistic images of various figures, including humans, mythological creatures, and animals. Medieval nomadic stelae depict humans schematically, often with pointed headdresses. Approximate date: 6000 B.C.E.-1774 C.E.

2. Miniature Sculptures and Statues—Made primarily of marble, quartz, and alabaster, these include anthropomorphic and zoomorphic forms and images of objects. Copper Age figurines vary in shape, often featuring prominent eyes, noses, or sex markers. Ancient Greek and Roman marble statuettes are naturalistic, depicting various figures. Approximate date: 6000 B.C.E.-1774 C.E.

3. Architectural Elements—Originating from religious, residential, and burial sites and used in walls, floors, vaults, and roofs. Constructed from slate, sandstone, limestone, marble, and other stones. Elements include, but are not limited to, capitals and parts of columns, pilasters, friezes, door and window frames, keystones, altars, altar screens, mosaics, and tiles. Stone slabs with relief and inlaid sculpted compositions, depicting religious figures, animals, and floral motifs, were embedded into railings or other parts of buildings. Approximate date: 650 B.C.E.-1774 C.E.

4. Mosaics—Composed of painted pebbles, marble, limestone, and bricks. Floors made of painted pebbles decorated Ancient Greek-period inner courts and rooms. Early Christian churches in Crimea and Kyiv were decorated with mosaics made of marble of various colors, limestone, and bricks. These mosaics were crafted from small cube-shaped stones (tesserae) measuring approximately 4-6 cm x 3-5 cm, set in a limestone mortar or cement. Motifs include, but are not limited to, geometric patterns, palmettes, depictions of people, borders with meanders, waves, braids, pairs of animals, and griffins. They show a variety of colors, including black, white, dark blue, and brown. Approximate date: 700 B.C.E.-1774 C.E.

5. Miniature Columns and Small Altars—Used to decorate shrines, burials, and churches, miniature columns range in size from 10 to 100 cm high and could be rounded, fluted, twisted, or composed of semi-columns. Made primarily of white marble, gray limestone, or shell rock. Small altars are movable architectural structures with rectangular or rounded bases, sometimes column-shaped with a shallow round surface, ranging in height from 10 cm to 1 m. These items are found at Ancient Greek, Roman, Byzantine, and Medieval sites. Approximate date: 650 B.C.E.-1774 C.E.

6. Furniture—Including, but not limited to, tables, tripods, and stool legs often shaped like lion's paws, as well as throne or stool backs and armrests decorated with reliefs or sculptures. Typically made of marble and other stones and dating from the Ancient Greek and Roman periods. Approximate date: 650 B.C.E.-1774 C.E.

7. Slabs with Relief Images and Inscriptions—Made of marble, limestone, and other local stones, these slabs have been produced since the Bronze Age. Locally quarried slabs are often gray, porous, and rough, while slabs carved in Ukraine on imported marble are white and gray. Motifs on Ancient Greek and Roman period slabs include humans, lions, sphinxes, and griffins, with reliefs sometimes combined with paintings. Inscriptions in various scripts, including Latin, Greek, and Cyrillic, are found on slabs of various shapes and sizes. Approximate date: 3000 B.C.E.-1774 C.E.

8. Sarcophagi, Ossuaries, and Gravestones—Sarcophagi and ossuaries are usually rectangular constructions made of jointed or carved slabs; their lids are also included, having roof-like shapes in the Roman period. Sizes vary depending on purpose: for cremations or inhumations, they range from half a meter to several meters. Gravestones are typically decorated with floral ornaments, rosettes, and cornices; usually rectangular with roof, arch, or cone-shaped tops. Late Antique, Medieval, and Early Modern gravestones include those shaped as crosses, tree trunks, or architectural structures. Approximate date: 650 B.C.E.-1774 C.E.

9. Crosses and Icons—Stone crosses are made primarily of marble or limestone and range in size from 10 cm to over half a meter. Stone icons are typically carved as rectangular or round plates usually from pink or blue slate or sandstone. Icons range from 5 to 25 cm in size. They are painted with images of single, frontally depicted, full-length or half-length figures of Christ, the Virgin Mary, or saints such as Nicholas, Theodore Stratelates, or others, or religious scenes with two to three figures shown frontally or in three-quarters view, such as the Annunciation, Presentation, Descent into Hell, and others. Icons usually have a frame, while crosses are sometimes set in frames made of other materials. Precious stones may be used in the decoration of small cultic objects. Approximate date: 300-1774 C.E.

10. Vessels—Made primarily of limestone, marble, and alabaster. Including, but not limited to, mortars and pestles of various sizes from the Bronze Age, and marble vessels for washing from the Ancient Greek and Roman periods. Alabaster vases and lamps were common in the Ancient Greek period. Church ceremonial vessels from the Medieval and Early Modern periods vary in shape from miniature narrow bottles (alabastra) to large open-shaped water basins (louteria). Approximate date: 3000 B.C.E.-1774 C.E.

11. Tools—Types include, but are not limited to, choppers, handaxes, axe heads, microlithic inlays, scrapers, blades, polishing tools, loom-weights, grindstones, wine-press stones, and anchors. Primarily made of flint, obsidian, granite, quartz, quartzite, shale, and steatite. Early Paleolithic tools were pebbles with chopped edges; later shapes continuing through the Copper and Bronze Ages include flaked tools. Loom-weights vary from conical to elongated shapes. Approximate date: 1.4 million years ago-1774 C.E.

12. Weapons—Types include, but are not limited to, arrowheads, spearheads, darts, maces, and cannonballs. Stone weapon heads have been used since the Paleolithic period. Stone maces from the Neolithic period are often smoothed. Cannonballs, often made of porous stone, range from 10 to 30 cm in diameter. Approximate date: 1.4 million years ago-1774 C.E.

13. Games—Represented primarily by dice and chess pieces. Chess pieces from the Kyivan Rus period have one flat side and a spherical or anthropomorphic shape. Ancient Greek dice are flat pebbles with ancient engravings and marks. Dice are about 2-4 cm in diameter. Approximate date: 650 B.C.E.-1300 C.E.

14. Adornments—Types include, but are not limited to, beads, pendants, and inlays made from materials such as turquoise, marble, quartz, emerald, carnelian, jasper, onyx, ruby, amethyst, and lazurite. Sarmatian jewelry contemporary with the Ancient Greek and Roman periods features inlaid precious stones. Byzantine and Kyivan Rus periods are known for amethyst and lazurite beads and inlays. Imported inlays were used in Medieval and later periods. Approximate date: 6000 B.C.E.-1774 C.E.

B. Metal

1. Coins—In gold, silver, bronze, copper, and lead. Some coin types minted in or commonly found in archaeological contexts in Ukraine in various periods are listed below.

a. Ancient Greek cities in Ukraine, including Olbia, Panticapaeum, Chersonesus, and Tyras, minted coins of various weights and metals. Cast currency in dolphin, sturgeon, and arrowhead forms was also produced in this period. See Zograph, A. Ancient Coinage, Part II, Ancient Coins of the Northern Black Sea Littoral. (Oxford, 1977). Approximate date: 600-47 B.C.E.

b. In the Roman period, Panticapaeum continued to mint coins, and other Roman imperial coins were also used. See MacDonald, D. An Introduction to the History and Coinage of the Kingdom of the Bosporus, Classical Numismatic Studies 5. (Lancaster, 2005). Approximate date: 47 B.C.E.-500 C.E.

c. Coins minted in the Kyivan Rus period include gold and silver zlatnyks with a portrait of the ruler and the trident (tryzub) symbol. Hexagonal cast ingots (hryvnia) were also produced. Bohemian deniers and dirhams of Islamic states were also used in the Medieval period. Pierced coins and exfoliated (flaked) coins, including half-coins and forgeries, were common. Approximate date: 880-1240 C.E.

d. Coins in use during the Late Medieval and Early Modern periods include, but are not limited to, Mongolian dirhams, Lithuanian denars, Polish ducats, Crimean Khanate akces, Austro-Hungarian talers, Ottoman coins, and Russian rubles. Approximate date: 1240-1774 C.E.

2. Medallions—Usually featuring relief images, known since the Early Iron Age, with gold, silver, and bronze phaleras used during the Roman period. Approximate date: 1000 B.C.E.-1774 C.E.

3. Relief Plaques and Reliefs—Made of gold, silver, bronze, and lead. Used to decorate clothes, wooden, or leather objects, such as horse harnesses, quivers, scabbards, belts, and vessels. Decorations include animals and floral ornaments. Approximate date: 650 B.C.E.-1774 C.E.

4. Jewelry—Types include, but are not limited to, diadems, earrings, rings, necklaces, bracelets, crosses, pendants, fibulae, beads, and tubes. Scythian jewelry in the Animal Style was typically made of gold, less often of silver and bronze. Usually, these pieces depict predators attacking herbivorous animals and mythological creatures. Small gold pendants and beads were used to decorate clothes of these and later nomads. Byzantine and Kyivan Rus jewelry featured floral and geometric designs. Medieval period pendants include moon-shaped examples decorated with ornaments and temporal or temple rings of various shapes, including plain wrapped wire or featuring plates, pendants and ornaments. Bronze and silver fibulae of the Early Iron Age show a variety of forms and are much smaller than the massive Early Medieval fibulae shaped as anthropomorphic figurines or five-rayed ornaments. Approximate date: 3000 B.C.E.-1774 C.E.

5. Vessels—Primarily made of bronze, silver, and gold. Large riveted bronze cauldrons with thick walls and short stems or feet, up to 1 meter in diameter, known since the Bronze Age. Smaller Scythian vessels include, but are not limited to, cones, rhytons, kylixes, phiales, cups, ceremonial plates, kraters, ladles, and strainers. Sarmatians widely used Roman-type vessels like situlas and pans. Vessels corresponding to Greek, Roman, Celtic and Late Roman bronze vessel types are also known. Metal handles from Scythian, Greek-period, and other vessels are often shaped as anthropomorphic or zoomorphic figures. Approximate date: 2500 B.C.E.-late 1774 C.E.

6. Sculpture and Small Figurines—Include bronze sculptures from the Ancient Greek and Roman periods, often fragmentary. Small figurines typically depicted deities, animals, and mythological creatures. Medieval examples show a more schematic style. Approximate date: 2500 B.C.E.-1774 C.E.

7. Horse Harness Elements—Including, but not limited to, shuffrons or chanfrons (face covers), often decorated in relief, psalia (bit and cheek-pieces), horseshoes, spurs, and stirrups. Scythian horse bridles were composed of bronze bits with stirrup-shaped ends, iron bits with looped ends, three-looped iron or bronze cheek-pieces, and nose plates. Sarmatian sets often included silver and lead bridle roundels, iron bits, cheek-pieces, frontlets with a hook, and phaleras. Medieval horse harnesses also featured phaleras, psalia, and other details made of precious metals. For example, the Khazar psalia were nail-shaped, and Kyivan Rus sets sometimes included horse head-covers made of several plates. Approximate date: 1000 B.C.E.-1774 C.E.

8. Armor Elements—Including, but not limited to, mail, knee and elbow guards, shields (and shield bosses or umbos), helmets, and belt sets. Scale armor consisted of iron, bronze, or bone scales sewn onto leather. Chain mail made of iron links was known in the Roman period and more frequent in the Kyivan Rus period. Approximate date: 900 B.C.E.-1774 C.E.

9. Weapons—Including, but not limited to, swords (including folded ones), daggers, arrowheads, spearheads, darts, maces, scepters, crossbows, cannons and cannonballs, and sabers. Scythians used leaf-shaped spearheads, bronze or sometimes iron arrowheads with a socket and two or three edges, iron swords and daggers, long swords, and war axes. Kyivan Rus warriors used star-shaped maces, axes, spears, swords, and arrows. Approximate date: 2500 B.C.E.-late 1774 C.E.

10. Vehicle Elements—Including, but not limited to, anchors, cart elements, and chariot wheels. Ancient Greek- and Roman-period chariot details often featured figurines. Approximate date: 2000 B.C.E.-300 C.E.

11. Tools—Including, but not limited to, knives, axes, tongs, needles, thimbles, medical instruments, strigils, miniature spoons, nails, hoes, plows, and sickles. May be made of bronze, copper, iron, silver, and gold. Precious metals were sometimes applied to miniature or ceremonial tools, which are often decorated with ornaments or figurative terminals. Approximate date: 2500 B.C.E.-1774 C.E.

12. Bells—Typically made in bronze or iron, in various shapes and sizes, including spherical, with holes and balls inside; dome-shaped; cylindrical; and pear-shaped. Bells adorned jewelry and dress, as well as carts, chariots, and horse harnesses. Examples for cultic use were hollow, with slits and small balls inside; they were positioned on elongated sockets and crowned with images of animal- or bird-heads or figures. Approximate date: 700 B.C.E.-1300 C.E.

13. Lighting Devices—Including oil lamps and candle holders, sometimes elaborately decorated and typically made of bronze. Oil lamps were rounded or elongated containers with one or more nozzles and a handle. Candle holders are found in hanging, table, and standing varieties. They are often decorated with separately produced ornaments. Approximate date: 650 B.C.E.-late 1774 C.E.

14. Seals or Sealings—Medieval hanging lead seals used to certify documents are called molybdobulas or bullas. They have at least one round flat side with a relief, and they often resemble medallions and were pierced to be hung. Later bullas take the shape of gold chrysobulls. They begin at about 2 cm in diameter, and their color varies from gray to brown. Approximate date: 200-1774 C.E.

15. Icons and Crosses—Including, but not limited to, relief metal icons, crosses, and encolpions (icon medallions). Encolpions, relief metal icons, and their frames were often made of mixed materials and carved, inlaid with precious stones and metals, or engraved. Both icons and crosses are found in various sizes, including smaller examples for wearing on the chest and large ceremonial ones. Approximate date: 300-1774 C.E.

16. Mirrors—Including, but not limited to, hand mirrors made of silver and bronze, with one polished flat side and carved decoration on the back. May be round with a handle or a loop at the center of the back. Handles typically take the form of either a loop or a plaque raised above two small posts; they are sometimes decorated with sculpted or carved animals on the terminals, or made in anthropomorphic form. Approximate date: 600 B.C.E.-200 C.E.

17. Keys and Locks—Including, but not limited to, cylindrical locks with C-shaped shackles. Later examples were flattened with more complex keyways. Some examples had protective shields. Approximate date: 800-1774 C.E.

18. Lead Plates—Including inscribed and uninscribed examples. May be folded or unrolled. Lead plates with traces of cast ornamentation are known. Vary in color from light gray to almost black with green or brown tints. Approximate date: 700 B.C.E.-1300 C.E.

19. Games—Including dice and simple chess pieces, made from lead and bronze, shaped as knucklebones or cylinders with or without carving. Used across various periods, in sizes around 2-4 cm in diameter. Approximate date: 650 B.C.E.-1300 C.E.

C. Terracotta, Ceramic, Porcelain, Faience, and Fired Clay

1. Architectural Ceramics—Including, but not limited to, terracotta roof tiles with stamps, antefixes (ornamented or anthropomorphic), sculpted rainwater spouts (typically in a lion-head shape), drainpipes, stamped or engraved bricks, including “plinths” (wide and flat fired bricks resembling tiles). Roof-tile styles include ridge tiles, raised tiles (imbrices), and tegulae. May be decorated with stamped relief designs. Antefixes may be decorated with palmettes, anthropomorphic images, or painted. Includes relief plaques and medallions that may be part of antefixes and are decorated with mythological scenes. Bricks may have traces of graffiti or be stamped. Kyivan Rus bricks used in churches may bear trident-shaped relief marks. Approximate date: 650 B.C.E.-1774 C.E.

2. Stove Tiles—Including glazed and unglazed stove tiles. Glazed types may be smooth or have relief decoration. Glazed stove tiles are typically decorated in green, blue, white, brown, red, and other colors. Unglazed stove tiles are typically created from clays in brown, buff, pink, red, and yellow colors, and may have negative relief decoration. Stove tiles may be decorated with painted ornaments, such as heraldic, floral, anthropomorphic, and/or zoomorphic motifs, or state and family symbols. Sizes vary, but they are typically 10 to 50 cm in height. Approximate date: 1200-1774 C.E.

3. Vessels—Including utilitarian vessels, fine tableware, and special-purpose vessels, in conventional shapes such as amphorae, bowls, bottles, goblets, jars, pitchers, plates, storage vessels, and vases, as well as unconventional shapes such as anthropomorphic and zoomorphic forms. Includes vessel lids and fragments of vessels. Clay colors vary but are typically gray or red. Vessels may be glazed (typically black or red), enameled, or engobed. Vessels may be painted, incised, molded or stamped in relief, or incrusted, or bear applied decoration. Types and characteristics of various periods are described below.

a. Neolithic and Copper Age—Vessel styles include Linear Band Ware or Linear Spiral-Meander Pottery with a globular shape and linear incised ornamentation such as spirals, and Cucuteni-Trypillia wares that may be decorated with incised or stamped designs, sometimes filled with white or red paste, or painted in monochrome, bichrome, or polychrome designs in white, red, brown, and black and engobed in red, orange, white, and other colors. Painted designs include geometric and organic motifs. Characteristic Trypillia forms include biconical pots and binocular-shaped cultic vessels, as well as anthropomorphic and zoomorphic vessels. Includes vessels that may have applied zoomorphic ornaments. Approximate date: 6000-2000 B.C.E.

b. Bronze Age—Vessel styles include types related to Corded Ware pottery with impressed or incised rope-like decorations and globular forms. Approximate date: 2100-800 B.C.E.

c. Greek and Roman Pottery—Ancient Greek pottery most often found in Ukraine includes, but is not limited to, kraters, table amphorae, bomoi, olpes, jars, oinochoes, kylixes, skyphoi, cups, pateras, phiales, lekythoi, plates, lekanes with lids, flasks, and gutti. The most recognizable types of painted vessels are Geometric, Black-figure, Red-figure, and White-ground. Greek and Roman tableware also includes vessels cast in molds such as Hellenistic cups and Roman Sigillata. Black glazed (lacquered) pottery includes several types with stamped ornaments. May bear short painted inscriptions (dipinti) or incised inscriptions (graffiti). The rims of pithoi were often incised with letters or ornaments. Approximate date: 700 B.C.E.-340 C.E.

d. Byzantine and Medieval—Vessels may be glazed and/or decorated with paint or relief ornaments. Transport amphorae are also found in this period. Approximate date: 340-1650 C.E.

e. Miniature Vessels—Miniature vessels are typically found in the above-mentioned shapes and styles, but in sizes as small as 1 cm in diameter. May be painted. Includes miniature clay spoons. Approximate date: 4000-47 B.C.E

4. Figurines and Models—Including figurines representing anthropomorphic, zoomorphic, and mythical figures and models of objects, buildings, or vehicles. Styles common in various periods are described below. Approximate date: 4000 B.C.E.-1774 C.E.

a. Copper Age Trypillian—Figurines are typically abstract and stylized with pierced, incised, and pinched details. Models of houses, boats, and sleighs drawn by oxen are typical in this period.

b. Ancient Greek and Roman Period—Figurines are usually naturalistic images of humans, half-human creatures, animals, and objects. Some figurines are made with separate movable limbs. Most figurines are hollow inside, with a technical opening (rounded, square, or triangular). May be painted, gilded, and/or decorated with applied elements, such as small clay balls, fruits, flowers, rosettes, leaves, and/or wreaths, which may bear incised details. Some figurines may have been created in molds. Clay cart models drawn by a horse are also found in the Roman period.

c. Late Antique to Early Modern Period—Figurines may be handmade or molded in anthropomorphic and zoomorphic forms. May be painted or incised.

5. Miniature Altars—Typically in cubic, rectangular, and rounded forms, but may also take the form of the club of Heracles. They are usually profiled, but sometimes bear relief images on their sides. Sizes typically vary from 10 to over 50 cm in height. Approximate date: 650 B.C.E.-300 C.E.

6. Molds—Types include jewelry molds and figurine molds. Sizes vary, but jewelry molds are typically 5-15 cm in length, while figurine molds reach up to 25-30 cm. Approximate date: 1000 B.C.E.-1300 C.E.

7. Tools—Including, but not limited to, loom-weights (may be round or pyramidal), coils, and fishing sinkers (may be pyramidal or quadrangular). Loom-weights and sinkers are typically pierced and smoothed but undecorated. Sizes vary, but are typically between 5-10 cm in diameter (rounded shapes) or up to 15 cm in height (pyramidal and quadrangular shapes). Approximate date: 6000 B.C.E.-1300 C.E.

8. Musical Instruments—Including wind and rattle-like instruments or toys that may be shaped like birds, eggs, boars, tortoises, other zoomorphic forms, and coffins. Approximate date: 3500 B.C.E.-1774 C.E.

9. Lamps and Lighting—Including, but not limited to, oil lamps and candle holders. Oil lamps vary in shape and type, ranging from open-shaped and hanging types to closed types with narrow nozzles, thin handles, and reliefs on the discus. Typically made from gray or red clay. May also be black-glazed or painted. Approximate date: 600 B.C.E.-1774 C.E.

10. Smoking Pipes—Early forms are typically short and rounded. Later forms are typically decorated and sometimes stamped. Approximate date: 600 B.C.E.-1774 C.E.

11. Items of Personal Adornment—Includes, but not limited to, beads and pendants. May be plain, glazed, painted, and/or engraved. Some beads and pendants have a zoomorphic form. Beads and pendants of Egyptian faience (sintered quartz) are typically light blue and may retain traces of glaze. Forms in this material include, but are not limited to, scarabs, Bes, Horus-Harpocrates, and other Hellenized Egyptian deities, as well as lions. Approximate date: 3500 B.C.E.-1774 C.E.

12. Games and Toys—Includes, but is not limited to, gaming pieces such as dice, chess pieces, painted eggs, and disc- or square-shaped tokens. Tokens may bear the impression of a coin on one side. Clay eggs may be plain or painted. Approximate date: 2500 B.C.E.-1774 C.E.

D. Plaster, Stucco, and Unfired Clay Architectural Elements

Including fragments of plaster used in architectural contexts from the Ancient Greek period and from the Kyivan Rus through Early Modern periods. May be painted, incised, or stamped. Approximate date: 650 B.C.E.-1774 C.E.

E. Bone, Ivory, Horn, and Shell

1. Plaques and Decorated Bones—Made from the bones of bulls, goats, mammoths, and other animals or from fossilized bone. The bone may be untreated, polished, painted, cut, incised, and/or engraved. Bone plaques may be decorated with linear and geometric incisions (such as coils), images, symbols (such as tamgas) and/or inscriptions. Approximate date: 1.4 million years ago-1774 C.E.

2. Figurines—Decoration includes crosses; humans; animals, particularly camels, ibex, and snakes; geometric and/or floral designs; and other designs; includes fragments. Painted on wood, stone, and plaster. May be on domestic or public walls or tombs. Approximate dates: 1200 B.C. to 1773 C.E.

3. Miniature Vessels and Boxes—Including, but not limited to, pyxides and their lids and narrow boxes for needles. Often bear engraved decorations. Approximate date: 1000 B.C.E.-1650 C.E.

4. Tools—Including, but not limited to, harpoons, needles, coils, awls, knife- and sickle-handles, miniature spoons, and writing implements (styli). Sizes vary, but typically range from 2 to 10 cm in length. Handles may be sculpted. Approximate date: 1 million years ago-1774 C.E.

5. Musical Instruments—Including parts of wind instruments such as the aulos, syrinx, syringa, and pan flute, and parts of stringed instruments such as the chelys or lyre, made from tortoiseshell. Approximate date: 650 B.C.E.-1300 C.E.

6. Horse and Warrior's Equipment—Including, but not limited to, bone psalia (bit and cheek-pieces), whip handles, plaques for maces, bows, and quivers, and arrowheads. Approximate date: 2500 B.C.E.-1300 C.E.

7. Items of Personal Adornment—Including, but not limited to, pins, bracelets, beads, rings, buckles, buttons, combs, furniture inlays, incrustations, box inlays, crosses, mirror handles, pommels, and powder containers. Combs may have engraved decoration, typically in circular form, and may be double-sided. Pommels are often carved as figurines. Amulets are often made of animal teeth and rings of tubular bones. Engraved pieces are commonly decorated with ornaments, marks, signs, and more. Plaques applied to decorate furniture, coffins, chests, and small boxes may bear elaborate reliefs. Buckles, buttons, and other accessories frequently feature engraved designs, images, and sometimes graffiti or carvings. Mirror handles and pins of the Ancient Greek and Roman periods may bear figurative carvings. Crosses and their inlay details were often made of bone, either engraved or carved. Trifold bone containers, approximately 10 cm in height, are interpreted as powder containers. They date to the Late Medieval to Early Modern periods and are often decorated with engravings. Approximate date: 1 million years ago-1774 C.E.

8. Games—Including gaming pieces such as dice, knucklebones, simple chess pieces, and other types. Knucklebones often have a variety of engraved marks on them. Chess pieces often have one flat side and a spherical or anthropomorphic shape; some may have a polychrome decoration. Approximate date: 650 B.C.E.-1774 C.E.

F. Wood and Other Organic Materials

1. Architectural Elements—Including, but not limited to, elements of towers, wells, churches, dwellings, and fences, particularly from the Medieval period. Carved wooden house decorations are found in the Medieval and Early Modern periods. Large elements may reach over 2 m, while carved elements may be smaller. Approximate date: 6000 B.C.E.-1774 C.E.

2. Vehicle Elements—Including, but not limited to, part of cartwheels, chariots, and boats. Cartwheels and fragments thereof, in both solid and spoked forms, may be found in Bronze Age burials. Includes elements of Ancient Greek and Roman period chariots. Boats and parts thereof from the Medieval period were sometimes used as coffins. Approximate date: 2500 B.C.E.-1774 C.E.

3. Furniture and Coffin Elements—Including, but not limited to, parts of tables, tripods, thrones, chairs, and klines (beds), sometimes carved with sculptural details. Carved and inlaid furniture is particularly common in the Medieval and Early Modern periods. Approximate date: 650 B.C.E.-1774 C.E.

4. Vessels—Including, but not limited to, Scythian-period cups and trays, which are sometimes set with precious metal plaques, and Medieval-period plates, which may be engraved. Also includes barrels from the Medieval and Early Modern periods. Approximate date: 1000 B.C.E.-1774 C.E.

5. Tools and Weapons—Including, but not limited to, distaffs, knife handles, quivers, and weaving combs. Approximate date: 1000 B.C.E.-1774 C.E.

6. Crosses and Icons—Including both large ceremonial and smaller personal crosses or carved wooden inlays for crosses. Crosses from the Medieval period and later are often made of cypress. Ceremonial crosses may reach up to 1 m, while personal crosses range from 1 to 15 cm in height. Icons are typically made of from one to three panels of coniferous or deciduous wood that have been joined together, painted, and finished with transparent varnish. Painted images include single, frontally depicted, full-length or half-length figures of Christ, the Virgin Mary, or saints such as Nicholas, Theodore Stratelates, or others, or religious scenes with two to three figures shown frontally or in three-quarters view, such as the Annunciation, Presentation, Descent into Hell, and others. Icons range in size from 20 cm to 2 or 3 m. Approximate date: 300-1774 C.E.

7. Musical Instruments—Including, but not limited to, stringed instruments, wind instruments, and percussion instruments. Beck-flutes are typical of the Medieval period. Approximate date: 3000 B.C.E.-1774 C.E.

8. Objects of Ceremonial and Daily Use—Including, but not limited to, wooden and bark shoes, lids from Ancient Greek-type mirrors, chests, caskets, games-such as simple chess pieces-and game boards. Also includes inscriptions in various scripts and languages on wooden plaques, birchbark, and paper. Chests may be painted or engraved and range in size from 5 to 50 cm. Approximate date: 2000 B.C.E.-1774 C.E.

9. Leather Objects—Including, but not limited to, tokens, elements of dress such as shoes and belts, saddle elements, quivers, and casket elements. Approximate date: 1000 B.C.E.-1774 C.E.

10. Textiles—Textiles and textile fragments are attested beginning in the Bronze Age and particularly in the Scythian period. May have floral ornaments in gold thread. Approximate date: 2500 B.C.E.-1774 C.E.

11. Amber Objects—Including, but not limited to, sculptures or figurines, usually schematic in style, dating particularly to the Copper and Bronze Ages and the Kyivan Rus period. Also includes jewelry and adornments such as beads, pendants, and inlays. Approximate date: 4000 B.C.E.-1240 C.E.

G. Glass

1. Items of Personal Adornment—Including, but not limited to, intaglios (also called gems), plain jewelry inlays, beads, rings, and bracelets. Intaglios are of various colors, but most commonly red or white. They have one flat surface with an engraved image, such as mythological figures and symbols. Inlays were most commonly made for rings, seals, and earrings. Beads, rings, and bracelets were made in a variety of colors, including red, blue, and yellow. Approximate date: 1000 B.C.E.-1774 C.E.

2. Vessels—Including both thicker, colored glass and transparent glass. Early vessel shapes include, but are not limited to, aryballoi (globular flasks). Thin transparent glass vessels, often with colored waves, are found beginning in the Roman period. Approximate date: 700 B.C.E.-1774 C.E.

3. Games—Including, but not limited to, dice and simple chess pieces. Chess pieces may be spherical or anthropomorphic in form; they are usually made of white, green, and brown glass and may be polychromatic. Approximate date: 700 B.C.E.-1300 C.E.

4. Mosaics—Glass tesserae were used for mosaics decorating floors, walls, and ceilings of Christian temples, as well as icons. Mosaic tesserae are around 1-2 cm and appear in various colors, including gold and blue. May be cobalt glass. Approximate date: 400-1300 C.E.

H. Human Remains

Including human remains and fragments of human remains, such as skeletal remains, soft tissue, and ash from the human body that may be preserved in burials, reliquaries, ossuaries, and other contexts. Bronze Age remains may include elongated skulls and mummified remains. Also includes Bronze Age skulls that have been painted and/or modeled, pierced, or given other decorations, as well as bones painted with red ochre or other materials. Approximate date: 1.4 million years ago-1774 C.E.

II. Ethnological Material

Ethnological material includes the following categories: ethnological religious and ritual objects, and objects related to funerary rites and burials dating from c. 200 to 1917 C.E.; ethnological manuscripts, written documents, and early prints dating from c. 900 to 1917 C.E.; ethnological architectural elements dating from c. 200 to 1917 C.E.; and ethnological paintings, military material, and traditional folk clothing and textiles dating from c. 1700 to 1917 C.E.

A. Religious and Ritual Objects, and Objects Related to Funerary Rites and Burials—Religious and ritual objects include moveable objects typically used in Ukrainian communal religious and ceremonial settings in all materials, as well as objects related to funerary rites and burials. Primarily in stone, wood, ceramic, metal, hand mixed paints, and textiles. Approximate date: c. 200-1917 C.E.

1. Sculptures—Including stone icons, relief plates, facade reliefs on religious structures, large free-standing sculpture found in both exterior and interior religious settings, small decorative sculptures, roadside crosses or figures, baptismal fonts (sometimes lotus-shaped), altars, lamps, and candlesticks. Primary materials include local stone (pink or blue slate or sandstone), white limestone, and imported materials such as jasper, steatite, alabaster, or wood. Stone icons are small stone plates (5-25 cm) depicting Christ, the Virgin Mary, Nicholas, and other religious figures. Reliefs often feature religious and narrative images such as a warrior fighting a lion, two saintly warriors on horseback, nativity scenes (vertep), and others.

2. Memorial Objects—Including sarcophagi, epitaph plaques, and tombstones, such as Jewish matzevah, Crimean Tatar mezartash and bashtash (gravestones bearing the name, place, and dates of birth and death), grave crosses and sculptures, made of stone, marble, slate, and other materials. Objects are often adorned with intricate carvings (floral, human, and zoomorphic motifs) and inscriptions.

3. Ritual Processional and Altar Objects—Includes wooden and stone icons of various sizes. Icons are a type of religious image carved from rectangular or round stone plates (usually pink or blue slate or sandstone, 5-25 cm) or painted on wood panels, depicting single saints (Christ, the Virgin Mary, Nicholas, Theodore Stratelates, etc.) frontally in either full-length or half-length, or religious scenes with two to three figures (Annunciation, Presentation, Descent into Hell, etc.) shown frontally or in three-quarter view. Intended for private use and close viewing. Wooden icons are made of one to three coniferous or deciduous wooden panels, joined together, prepared, covered with tempera paint (pigments ground in egg yolk), and finished with a transparent varnish. May be used in processions, altars, iconostases, or be free-standing. Size usually ranges from 20 cm to 2-3 m.

This category also includes ritual and ceremonial vessels, such as donation bowls, jugs and pitchers for holy water, Easter baskets (paskivnyk), vessels used in wedding ceremonies (lembyk, perepiytsia), Jewish seder plates, and Hanukkah menorah. Lembyk drinking vessels often take human or animal forms. Jewish objects are frequently glazed and decorated with flowers, birds, and animal motifs. The category also includes tabernacles (kivot; sometimes resembling miniature architecture), seven-branched candlesticks, reliquaries, icon cases (kiot), processional icons (feretron), altar crosses, backdrop crosses, hand-held crosses used in benedictions, collection boxes (skarbnychka), and processional staffs (pateritsa, bakulus, pastoral). These objects frequently bear relief carvings, gilding, and symbolic ornamentation. Metal liturgical and ceremonial objects include chests or arks, tabernacles, reliquaries, small portable arks (pyxes), royal doors, metal covers for icon-painted surfaces (shata, ryza, oklad), book covers, fans on long handles (rypida), large hanging chandeliers (panikadylo), wall-mounted lighting fixtures that reflect candlelight in synagogues (reflectors), Hanukkah lamps, thuribles (kadylo), ritual boxes for storing Sabbath spices (bsamim), Torah crowns, Torah shields (tas), small boxes for storing Torah scrolls (mezuzah), Torah pointers, chalices (potyr), Eucharistic plates (diskoi), metal arches to cover diskoi (stars), double-edged knives with short triangular blades (spears), clergymen's headwear (miters), cross-reliquaries (encolpion), pectoral crosses, clergymen's round-form insignia (panagia), and pastoral staffs (crosiers). These items were often made of bronze, copper, gold, or silver, adorned with precious stones, pearls, and enamels, and featured intricate decorations depicting religious scenes. Ceramic altar crosses sometimes imitate those of wood or metal, and sometimes adorn church facades. This category also includes fragments of objects of the above-mentioned types.

4. Church Furniture and Fixtures—Including iconostases and altars, as well as their decorative frames, columns, cartouches, consoles, cornices, royal doors, and deacon's doors. Component parts when installed in the context of churches may form multi-tiered ensembles and serve as the framing structures for painted icons. These are typically carved from softwood or hardwood, decorated with chalk gesso, gilding, silver gilding (vermeil), and colored lacquers. Stylized grapevines are the most frequently occurring decorative motif. This category also includes altar tables (prestol), protheses (proskomydiynik), canopies (kivoriy), anoloys (analoy), tetrapods (tetrapod), golgothas, tombs of the Lord, ambos (pulpits), thrones (synthronon), monastic benches (stasidias), pews, large chandeliers, and candelabrums of varying sizes. Most frequently carved from wood and embellished to a greater or lesser degree with reliefs, painting, and gilding.

5. Religious Fabrics—Including Christian processional banners (horuhva), various liturgical service cloths, katasarka indittion, ilyton, antimension fabrics made with woodcut or copperplate printing techniques with relics sewn inside, antymins depicting the Burial of Christ, pokrivets, chalice and diskos coverings (vozdukh, plaat, pelena), decorative curtains such as those for the royal doors of iconostases (Katapetasmas), or those for covering a Torah ark (parokhet), decorative elements for synagogue curtains (lambrequin kaporets). Materials include velvet or homespun cloth, sometimes bearing embroidered or appliqué icons, ornamental motifs, and religious scenes or symbolism, and knotted wool. Religious garments include vestments for priests, deacons, and bishops made of white, gold-embroidered fabrics, miters, kippahs, yarmulkes, and prayer shawls (tallits) made of wool, cotton, silk, or linen.

B. Architectural Elements—Objects in this category were produced by skilled craftspeople in a nonindustrial society, with materials often hand-carved and/or made from joined wood, modeled, formed, or painted. Architectural elements are found in stone, wood, ceramic, plaster or stucco, and other painted media used to decorate civic and religious architecture. Approximate date: 200-1917 C.E.

1. Stone—Including capitals, balustrades and parapets, vases, lanterns, brackets or consoles, facade reliefs, mascarons (sculpted faces), and cartouches (scrolls, coats of arms).

2. Wood—Including carved beams (svolok), carved doorways, balustrades, horse-head brackets (konyk), carved or painted window frames (lyshtvy), and shutters. May be adorned with symbolic carvings reflecting traditional Ukrainian styles.

3. Ceramic and Terracotta—Including exterior decorative elements, pipes, roof coverings, chimneys, and echea (acoustic jars). More rarely, may include ceramic cupolas with crosses, capitals, bell towers, and other exterior decorations. Interior architectural elements include ceramic icon cases, altars, and iconostases, frequently decorated with techniques such as relief appliqué, stamping, engraving, and colorful glazes or underglaze painting, tiles for wall and floor cladding, and stoves. Thick wall tiles, especially from the Lviv and Chernihiv regions, feature underglaze painting, imitating Dutch tiles. Hutsul folk tiles depict everyday or military scenes, or vegetal and animal motifs rendered in dark outlines and underglaze painting (engobes) in green, yellow, and brown. Ichnia tiles bear white surfaces and bird motifs.

4. Metal—Including bells and crosses on domes. Bells are hollow, pear-shaped, with bronze, brass, gold, or silver alloy clappers. These are often decorated with relief friezes, figures of saints, dedicatory inscriptions, and coats of arms. Crosses vary in form and may be adorned with geometric patterns (e.g., wavy, bent rods), plant motifs, or smaller crosses.

5. Glass—Including monumental mosaics and stained glass, colored stained glass found in domestic and religious settings, and small colored glass fragments (smalta) used in mosaics that bear ornamental, figural, or landscape scenes.

C. Manuscripts, Written Documents, and Early Prints—Manuscripts, portions of manuscripts, and works on paper include handmade, handwritten, hand-illustrated and/or illuminated sheets, bound volumes and their bindings, manuscript books, and non-industrial print media. Includes fragments. Approximate date: 900-1917 C.E.

Types include charters, bulls, autographs, and other paper artifacts; liturgical manuscripts, illuminated manuscripts, early printed books adorned with fabric, leather, and metal covers, and parchment. Early pre-industrial centers of printing include Lviv, Ostrih, Derman, Pochaiv, and Kyiv. Prints include woodcuts, engravings, etchings, and lithographs. These may feature images of Jesus Christ, the Virgin Mary, saints, and religious feast scenes, sometimes illuminated with watercolors.

D. Ethnological Paintings—Paintings were made by artists who progressed from traditional icon painters, using similar techniques, hand mixing paints, and trained in workshops as apprentices to masters of the craft. Approximate date: 1700-1917 C.E.

1. Icon Paintings on Glass—A popular form of folk art especially in the nineteenth and early twentieth centuries, Hutsulshchyna, Bukovyna, and Pokuttya ethnographic regions; notable for their bright colors and rich floral ornamentation.

2. Paper Cutouts—This category also includes paper cutouts, another type of folk art. These objects are created by cutting forms from paper or thin cardboard and were used in interior decoration mainly in the nineteenth and early twentieth centuries.

E. Military Material—Military material was made by skilled metalworkers and armorers, traditionally working out of a small shop or house—or as employed by an imperial authority—using the same hand-striking process to produce weapons and armor. Approximate date: 1700-1917 C.E. Including standards (bunchuk), maces (pernach), including but not limited to those with metal spikes (buzdyhan), and those with wooden or metal handles, sometimes decorated with precious stones, horsehair, and gold spherical ornaments; sabers, axes (bartka), knives, battle hammers bearing a sharp iron hook attached to a thin handle, pistols, and rifles. Sabers may be decorated with valuable materials such as ivory and gold, and intricate designs. Hutsul bartkas (shepherd's axes) consist of long wooden handles adorned with geometric patterns using embossing, engraving, and inlay techniques. The Crimean Tatars' axe (ay balta) consists of heavily-ornamented, crescent-shaped blades. Pistols and rifles, especially ceremonial ones, feature detailed decorations with engraving, niello, and inlays.

F. Traditional Folk Clothing and Textiles—Traditional folk clothing and textiles were handwoven and sewn by members of guilds, operating in small businesses run out of weavers' homes. Approximate date: 1700-1917 C.E.

1. Traditional Textiles—Including woven or knotted woolen carpets with floral motifs, tapestries, gold-woven products that adorned the walls of magnates' rooms (makata), pile carpets made on vertical looms (kots), rectangular fabrics made of coarse wool, initially woven on a horizontal loom as smooth double-sided carpets (lizhnyk), fabric for covering beds, woven on a horizontal loom with plain or twill weave from hemp or linen threads (vereta), and other domestic textiles, embroidered (rushnyks) or bearing hand-printed ornamental motifs.

2. Folk Clothing—Including items from the Hutsul regions and Carpathian regions such as fur coats made from sable, lynx, and fox fur (shuba), protective vests with sewn-on metal plates (kuyak), sleeveless leather cloaks made from fur and lined with satin (vilchura), fur hats (kuchma), wide belts with up to six buckles with rich metal décor (cheres), small bags (tabivka), and narrow bags for arrows (sahaidak, kolchan). Other garments include embroidered shirts, waist garments, wide-cut pants, narrow trousers, upper garments, jackets, belts, aprons, (all of which may be made of woolen fabric, sometimes dyed red or black), sometimes richly embroidered or brocaded. Embroidered fabrics bear regionally unique decorative and color schemes.

a. Garments of the Cossack type are sewn from long panels (kaftans, zhupans). Items may be made of red, gold-woven, gray, or blue cloth, or silk, with velvet, brocade, or fur details. Outer garments include coats made of sheepskin (kobenyak), cloth coats lined with cotton with fur (bekesha), or loose-cut coats with slit elbow sleeves (delia). Wide belts are made of gold-woven fabric, often highly embellished.

b. Crimean Tatar costume includes wide trousers (don, duman), wide-cut shirts, striped silk dress-coats, linen shirts (colmek-keten), vests (bagr-elek), jackets (marka), kamzols, eastern-style coats (anteri, havtani), sleeveless leather coats, and various types of trousers. These garments are often decorated with braids, cords, lace, and unique handmade buttons.

3. Leather Footwear—Including footwear made of thick cow or pig rawhide (postoly) or Moroccan leather in various colors (sapyantsi), low-heeled women's shoes (cherevyky), and Crimean Tatar soft-soled boots of yellow or black leather (mest).

Inapplicability of Notice and Delayed Effective Date

This regulation involves a foreign affairs function of the United States and is, therefore, being made without notice or public procedure under 5 U.S.C. 553(a)(1). For the same reason, a delayed effective date is not required under 5 U.S.C. 553(d)(3).

Executive Orders 12866 and 13563

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility. CBP has determined that this document is not a regulation or rule subject to the provisions of Executive Orders 12866 and 13563 because it pertains to a foreign affairs function of the United States, as described above, and therefore is specifically exempted by section 3(d)(2) of Executive Order 12866 and, by extension, Executive Order 13563.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

This regulation is being issued in accordance with 19 CFR 0.1(a)(1) pertaining to the Secretary of the Treasury's authority (or that of the Secretary's delegate) to approve regulations related to customs revenue functions.

Troy A. Miller, the Senior Official Performing the Duties of the Commissioner, having reviewed and approved this document, has delegated the authority to electronically sign this document to the Director (or Acting Director, if applicable) of the Regulations and Disclosure Law Division for CBP, for purposes of publication in the Federal Register.

List of Subjects in 19 CFR Part 12

Cultural property, Customs duties and inspection, Imports, Prohibited merchandise, Reporting and recordkeeping requirements.

Amendments to the CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections § 12.104 through 12.104i also issued under 19 U.S.C. 2612;

* * * * *

2. In § 12.104g, the table in paragraph (b) is amended by adding Ukraine to the list in alphabetical order to read as follows:

§ 12.104g Specific items or categories designated by agreements or emergency actions.

* * * * *

(b) * * *

State party | Cultural property | Decision No.
* * * * * * *
Ukraine | Archaeological material of Ukraine ranging in date from approximately the Paleolithic period (c. 1.4 million years ago) through 1774 C.E., and ethnological material of Ukraine ranging in date from approximately 200 C.E. to 1917 C.E | CBP Dec. 24-16.
* * * * * * *

Robert F. Altneu,
Director, Regulations & Disclosure Law Division, Regulations & Rulings, Office of Trade U.S. Customs and Border Protection.
Approved:
Aviva R. Aron-Dine
Acting Assistant Secretary of the Treasury for Tax Policy.

[FR Doc. 2024-20385 Filed 9-9-24; 8:45 am]

BILLING CODE 9111-14-P